DEPARTMENT OF JUSTICE

Notice of Lodging of Consent Decree Pursuant to the Comprehensive Environmental Response, Compensation, and Liability Act

Notice is hereby given that a proposed consent decree in United States, et al. v. Montrose Chemical Corporation of California, et al., No. CV 90-3122-R (C.D. Cal), was lodged on December 19, 2000 with the United States District Court for the Central District of California. The consent decree resolves claims under Section 107 of the Comprehensive Environmental Response, Compensation, and Liability Act of 1980, 42 U.S.C. 9607, as amended, brought against defendants Montrose Chemical Corporation of California (“Montrose”), Aventis CropScience USA, Inc. (“Aventis”), Chris-Craft Industries, Inc. (“Chris-Craft”), and Atkemix Thirty Seven, Inc. (“Atkemix-37”) (Collectively, the “DDT Defendants”), for damages for injuries to natural resources caused by releases of DDT from the Montrose plant to the Pacific Ocean, and associated contamination of sediments on the Palos Verdes shelf in the vicinity of Los Angeles, California, and for response costs incurred and to be incurred by the United States Environmental Protection Agency in connection with responding to the release and threatened release of hazardous substances at the same area.

The proposed consent decree provides that the DDT Defendants will pay $73 million to resolve their liability to the United States and State of California for natural resource damages and response costs as described above. The consent decree includes a covenant not to sue by the United States under Sections 106 and 107 of the Comprehensive Environmental Response, Compensation, and Liability Act of 1980, 42 U.S.C. 9606 and 9607, and under Section 7003 of the Resource Conservation and Recovery Act (“RCRA”), 42 U.S.C. 6973.

The Department of Justice will receive, for a period of thirty (30) days from the date of this publication, comments relating to the proposed consent decree. Commenters may request an opportunity for a public meeting in the affected area, in accordance with Section 7003(d) of the RCRA. Comments should be addressed to the Assistant Attorney General for the Environment and Natural Resources Division, Department of Justice, Washington, D.C. 20530, and should refer to United States, et al. v. Montrose Chemical Corporation of California, et al., No. CV 90-3122-R (C.D. Cal), DOJ Ref. #90-11-3-159 and DOJ Ref. #90-11-3-511.

The proposed consent decree may be examined at the office of the United States Attorney, Central District of California, Federal Building, 300 North Los Angeles Street, Los Angeles, CA 90012; the Region IX Office of the Environmental Protection Agency, 75 Hawthorne Street, San Francisco, CA 94105. A copy of the proposed consent decree may be obtained by mail from the Consent Decree Library, Post Office Box 7611, Washington, D.C. 20044. In requesting copies please refer to the referenced case and enclose a check in the amount of $13.50 (25 cents per page reproduction costs), payable to the Consent Decree Library.

Bruce Gelber,
Chief, Environmental Enforcement Section, Environment and Natural Resources Division.

[FR Doc. 00-33384 Filed 12-29-00; 8:45 am]

BILLING CODE 4410-15-M